DEPARTMENT OF ENERGY

Senior Executive Service; Performance Review Board

AGENCY: U.S. Department of Energy.

ACTION: SES Performance Review Board Standing Register.

SUMMARY: This notice provides the Performance Review Board Standing Register for the Department of Energy. This listing supersedes all previously published lists of PRB members.

DATES: These appointments are effective as of September 30, 2009.

ADAMS, VINCENT NMN

ALLISON, JEFFREY M

AMARAL, DAVID M

ANDERSON, CYNTHIA V

ANDERSON, MARGOT H

AOKI, STEVEN NMN

ARMSTRONG, DAVID J

ASCANIO, XAVIER NMN

BAKER, KENNETH E

BARKER JR, WILLIAM L

BARWELL, OWEN F

BASHISTA, JOHN R

BATTERSHELL, CAROL J

BAUER, CARL O

BEAMON, JOSEPH A

BEARD, JEANNE M

BEARD, SUSAN F

BEAUDRY-LOSIQUE, JACQUES A

BEAUSOLEIL, GEOFFREY L

BEKKEDAHL, LARRY N

BELL, MELODY C

BERKOWITZ, BARRY E

BIENIAWSKI, ANDREW J

BISCONTI, GIULIA R

BLACK, RICHARD L

BLACK, STEVEN K

BOARDMAN, KAREN L

BONILLA, SARAH J

BORGSTROM, CAROL M

BORGSTROM, HOWARD G

BOSCO, PAUL NMN

BOULDEN III, JOHN S

BOYD, DAVID O

BOYD, GERALD G

BOYKO, THOMAS R

BOYLE, WILLIAM J

BRESE, ROBERT F

BREWER, STEPHANIE J

BROCKMAN, DAVID A

BROMBERG, KENNETH M

BROTT, MATTHEW J

BROWN III, ROBERT J

BROWN, FRED L

BROWN, STEPHANIE H

BROWN, THOMAS E

BRYAN, WILLIAM N

BURCH, LINDA C

BURNS, ALLEN L

BURROWS, CHARLES W

BUTTRESS, LARRY D

BUZZARD, CHRISTINE M

CADIEUX, GENA E

CALLAHAN, SAMUEL N

CAMPBELL II, HUGH T

CANNON, SCOTT C

CARABETTA, RALPH A

CAROSINO, ROBERT M

CARY, STEVEN V

CAVANAGH, JAMES J

CERVENY, THELMA J

CHALK, STEVEN G

CHARBONEAU, STACY L

CHECK, PETER L

CHOI, JOANNE Y

CHUNG, DAE Y

CLAPPER, DANIEL R

CLARK, DIANA D

CLARK, LARRY W

COHEN, DANIEL NMN

COLLARD, GEORGE W

COLLAZO, YVETTE T

COMO, ANTHONY J

CONNOR, MICHAEL A

CONTI, JOHN J

COOK, JOHN S

COOKE JR, KEVIN R

CORBIN, ROBERT F

COREY, RAY J

COSTLOW, BRIAN D

CRAIG JR, JACKIE R

CRANDALL, DAVID H

CRAWFORD, DAVID W

CRAWFORD, GLEN D

CROUTHER, DESI A

CUGINI, ANTHONY V

DAUB, VERNON NMN

DAVENPORT, SHARI T

DAVIS, KIMBERLY A

DAVIS, PATRICK B

DEAROLPH, DOUGLAS J

DECKER, ANITA J

DEDIK, PATRICIA NMN

DEENEY, CHRISTOPHER NMN

DEHAVEN, DARREL S

DEHMER, PATRICIA M

DEHORATIIS JR, GUIDO NMN

DELWICHE, GREGORY K

DER, VICTOR K

DIAMOND, BRUCE M

DICAPUA, MARCO S

DIFIGLIO, CARMEN NMN

DOWELL, JONATHAN A

DUKE JR, RICHARD D

DYER, J RUSSELL

ECKROADE, WILLIAM A

EDWARDS JR, ROBERT H

EGGER, MARY H

EHLI, CATHY L

EKIMOFF, LANA NMN

ELKIND, JONATHAN H

ELY, LOWELL V

ERHART, STEVEN C

ERICKSON, LEIF NMN

ESCHENBERG, JOHN R

FAUL, JERRY W

FERRARO, PATRICK M

FIORE, JAMES J

FOLEY, KATHLEEN Y

FOLEY, THOMAS C

FRANCO JR., JOSE R

FRANKLIN, RITA R

FRANTZ, DAVID G

FREMONT, DOUGLAS E

FRESCO, MARY ANN E

FURRER, ROBIN R

FURSTENAU, RAYMOND V

FYGI, ERIC J

GARCIA, DONALD J

GASPEROW, LESLEY A

GEISER, DAVID W

GELLES, CHRISTINE M

GENDRON, MARK O

GERRARD, JOHN E

GIBBS, ROBERT C

GIBSON JR, WILLIAM C

GILBERTSON, MARK A

GILLO, JEHANNE E

GIST, WALTER J

GOLAN, PAUL M

GOLDSMITH, ROBERT NMN

GOLUB, SAL JOSEPH

GOODRUM, WILLIAM S

GOODWIN, KARL E

GORDON, THEANNE E

GOTTLIEB, PAUL A

GREENAUGH, KEVIN C

GREENWOOD, JOHNNIE D

GRUENSPECHT, HOWARD K

GUEVARA, ARNOLD E

GUEVARA, KAREN C

HANDSCHY, MARK A

HANDWERKER, ALAN I

HANNIGAN, JAMES J

HARDWICK JR, RAYMOND J

HARMS, TIMOTHY C

HARRELL, JEFFREY P

HARRINGTON, PAUL G

HARRIS, ROBERT J

HARTMAN, JOHN R

HARVEY, STEPHEN J

HASS, RICKEY R

HEGBURG, ALAN S

HENNEBERGER, KAREN O

HENNEBERGER, MARK W

HENRY, EUGENE A

HERRERA, C ROBERT D

HILL, JOANNE NMN

HINE, SCOTT E

HINTZE, DOUGLAS E

HOFFMAN, DENNIS J

HOFFMAN, PATRICIA A

HOLLAND, MICHAEL D

HOLLAND, MICHAEL J

HOLLAND, WENDOLYN S

HOLLRITH, JAMES W

HORTON, LINDA L

HOWARD, MICHAEL F

HUFFER, WARREN L

HUIZENGA, DAVID G

HUNTEMAN, WILLIAM J

HYNDMAN, JOHN E

JENKINS, ROBERT G

JOHNSON, DAVID F

JOHNSON, ROBERT SHANE

JOHNSON, SANDRA L

JOHNSTON, MARC NMN

JONAS, DAVID S

JONES, GREGORY A

JONES, MARCUS E

JONES, WAYNE NMN

JUAREZ, LIOVA D

KAEMPF, DOUGLAS E

KANE, MICHAEL C

KEARNEY, JAMES H

KELLY, HENRY C

KELLY, LARRY C

KENCHINGTON, HENRY S

KENDELL, JAMES M

KETCHAM, TIMOTHY E

KIDD IV, RICHARD G

KIGHT, GENE H

KILROY, EDWARD F

KLARA, SCOTT M

KLAUSING, KATHLEEN A

KLING, JON NMN

KNOELL, THOMAS C

KNOLL, WILLIAM S

KOLB, INGRID A C

KONOPNICKI, THAD T

KOURY, JOHN F

KOUTS, CHRISTOPHER A

KOVAR, DENNIS G

KRAHN, STEVEN L

KROL, JOSEPH J

KUNG, HUIJOU HARRIET

KUSNEZOV, DIMITRI F

LAGDON JR, RICHARD H

LAMBERT, JAMES B

LANGE, ROBERT G

LANTHRUM, J GARY

LAWRENCE, ANDREW C

LAWRENCE, STEVEN J

LAY, WILLIAM G

LEATHLEY, KIMBERLY A

LECKEY, THOMAS J

LEE, STEVEN NMN

LEE, TERRI TRAN

LEGG, KENNETH E

LEHMAN, DANIEL R

LEIFHEIT, KEVIN R

LEISTIKOW, DANIEL A

LEMPKE, MICHAEL K

LERSTEN, CYNTHIA A

LEV, SEAN A

LEVITAN, WILLIAM M

LEWIS III, CHARLES B

LEWIS JR, WILLIAM A

LEWIS, ROGER A

LINGAN, ROBERT M

LISOWSKI, PAUL W

LIVENGOOD, JOANNA M

LOWE, OWEN W

LOYD, RICHARD NMN

LUCZAK, JOANN H

LUSHETSKY, JOHN M

LUTHA, RONALD J

LUTZE, NEILE MILLER

LYONS, PETER B

MACINTYRE, DOUGLAS M

MAINZER, ELLIOT E

MALOSH, GEORGE J

MARCINOWSKI III, FRANK NMN

MARLAY, ROBERT C

MARMOLEJOS, POLI A

MARTINEZ, ELOY DENNIS

MCARTHUR, BILLY R

MCCLOUD, FLOYD R

MCCLUER, MEGAN S

MCCONNELL, JAMES J

MCCORMICK, MATTHEW S

MCCRACKEN, STEPHEN H

MCGINNIS, EDWARD G

MCGUIRE, PATRICK W

MCKEE, BARBARA N

MCKENZIE, JOHN M

MCRAE, JAMES BENNETT

MEACHAM, A AVON

MEEKS, TIMOTHY J

MELLINGTON, STEPHEN A

MELLINGTON, SUZANNE P

MILLER, CLARENCE L

MILLER, DEBORAH C

MILLER, WENDY L

MILLIKEN, JOANN NMN

MIOTLA, DENNIS M

MOE, DARRICK C

MONETTE, DEBORAH D

MONTANO, PEDRO A

MONTOYA, ANTHONY H

MOODY III, DAVID C

MOORE, JOHNNY O

MOORER, RICHARD F

MOREDOCK, J EUN

MORTENSON, VICTOR A

MUELLER, TROY J

MURPHIE, WILLIAM E

MUSTIN, TRACY P

NAPLES, ELMER M

NASSIF, ROBERT J

NEUHOFF, JON W

NEWMAN, LARRY NMN

NICOLL, ERIC G

NIEDZIELSKI-EICHNER, PHILL

NOLAN, ELIZABETH A

NORMAN, PAUL E

NOUSEN, DOUGLAS L

O'CONNOR, J RODERICK

O'CONNOR, STEPHEN C

O'CONNOR, THOMAS J

O'KONSKI, PETER J

OLENCZ, JOSEPH NMN

OLINGER, SHIRLEY J

OLIVER, STEPHEN R

OOSTERMAN, CARL H

OSHEIM, ELIZABETH L

OTT, MERRIE CHRISTINE

OWENDOFF, JAMES M

PALMISANO, ANNA C

PARNES, SANFORD J

PAVETTO, CARL S

PEASE, HARRISON G

PENRY, JUDITH M

PERSON JR, GEORGE L

PETERSON, BRADLEY A

PHAN, THOMAS H

PHOEBE, CHRISTINE A

PODONSKY, GLENN S

PORTER, STEVEN A

POWERS, KENNETH W

PROCARIO, MICHAEL P

PROVENCHER, RICHARD B

PURUCKER, ROXANNE E

PYKE JR, THOMAS N

RAINES, ROBERT B

RAMSEY, CLAY HARRISON

RHODERICK, JAY E

RICHARDS, AUNDRA M

RICHARDSON, HERBERT NMN

RICHARDSON, SUSAN S

ROACH, RANDY A

RODGERS, DAVID E

RODGERS, STEPHEN J

ROEGE, WILLIAM H

ROGERS, MATTHEW C

ROHLFING, ERIC A

RUSSIAL, THOMAS J

RUSSO, FRANK B

SALMON, JEFFREY T

SAVAGE, CARTER D

SCHEINMAN, ADAM M

SCHOENBAUER, MARTIN J

SCHWIER, JEAN F

SCOTT, RANDAL S

SEDILLO, DAVID NMN

SEWARD, LACHLAN W

SHAFIK, CHRISTINE M

SHEELY, KENNETH B

SHEPPARD, CATHERINE M

SHERRY, THEODORE D

SHOOP, DOUG S

SHORT, STEPHANIE A

SILVERSTEIN, BRIAN L

SIMONSON, STEVEN C

SIMPSON, EDWARD R

SITZER, SCOTT B

SKUBEL, STEPHEN C

SMITH-KEVERN, REBECCA F

SMITH, KEVIN W

SMITH, THOMAS Z

SNIDER, ERIC S

SNIDER, LINDA J

SNYDER, ROGER E

SPEARS, TERREL J

SPERLING, GILBERT P

STAKER, THOMAS R

STALLMAN, ROBERT M

STARK, RICHARD M

STARNES, ALBERT J

STATON, CARL P

STENSETH, WILLIAM LYNN

STONE, BARBARA R

STRAYER, MICHAEL R

STREIT, LISA D

SURASH, JOHN E

SWEETNAM, GLEN E

SYKES, MERLE L

SYNAKOWSKI, EDMUND J

TALBOT JR, GERALD L

TAYLOR, HUGH N

TAYLOR, WILLIAM J

THOMPSON, MICHAEL A

THRESS JR, DONALD F

TOCZKO, JAMES E

TOMER, BRADLEY J

TORKOS, THOMAS M

TOWNE, LAWRENCE H

TRAUTMAN, STEPHEN J

TUCKER, CRAIG A

TURI, JAMES A

TURNBULL, WILLIAM THOMAS

TURNER, SHELLEY P

TYNER, TERESA M

UNDERWOOD, WILLIAM R

UTECH, DAN G

VALDEZ, WILLIAM J

VAVOSO, THOMAS G

VENUTO, KENNETH T

WADDELL, JOSEPH F

WAGNER, M PATRICE

WAISLEY, SANDRA L

WALL, EDWARD JAMES

WARD, GARY K

WARNICK, WALTER L

WEATHERWAX, SHARLENE C

WEEBER, DANIEL M

WEEDALL, MICHAEL J

WEIS, MICHAEL J

WELLING, DAVID CRAIG

WELLS, RITA L

WESTON-DAWKES, ANDREW P

WHITAKER JR, MARK B

WHITNEY, JAMES M

WHITTED, LINDA F

WILBANKS, LINDA R

WILBER, DEBORAH A

WILCHER, LARRY D

WILKEN, DANIEL H

WILLIAMS, ALICE C

WILLIAMS, MARK H

WILLIAMS, RHYS M

WILSON JR, THOMAS NMN

WINCHELL JR, DONALD L

WORLEY, MICHAEL N

WORTHINGTON, JON C

WORTHINGTON, PATRICIA R

WRIGHT, STEPHEN J

WU, CHUAN-FU NMN

WYKA JR, THEODORE A

YOSHIDA, PHYLLIS G

YUAN-SOO HOO, CAMILLE C

ZABRANSKY, DAVID K

ZAMORSKI, MICHAEL J

ZEH, CHARLES M

Issued in Washington, DC on November 16, 2009.
Sarah J. Bonilla,
Director, Office of Human Capital Management.

[FR Doc. E9-27908 Filed 11-19-09; 8:45 am]

BILLING CODE 6450-01-P